ENVIRONMENTAL PROTECTION AGENCY

[FRL-9446-01-OMS]

Privacy Act of 1974; System of Records

AGENCY: Office of Mission Support (OMS), Environmental Protection Agency (EPA).

ACTION: Notice of a modified system of records.

SUMMARY: The U.S. Environmental Protection Agency's (EPA or Agency), Administrative IT System Support Staff, Office of Mission Support (OMS), is giving notice that it proposes to modify a system of records, Case Records System (CRS), pursuant to the provisions of the Privacy Act of 1974. EPA is modifying the Case Records System by renaming it to the Enterprise Legal Case Management System (ELCMS), consolidating information from other databases into the system, and moving it to a new enterprise platform, which is a platform that supports Agency-wide usage for Agency administrative legal proceedings. The purpose of the modified system is to manage the administrative adjudicatory proceedings held before the Agency through docketing, filing, case tracking, and document management and storage. Litigants, Agency attorneys and judges, and other interested parties may submit a variety of documents to the system, including pleadings, motions, briefs, exhibits, orders, hearing transcripts and initial decisions.

DATES: Persons wishing to comment on this system of records notice must do so by March 25, 2022. New or modified routine uses for this modified system of records will be effective March 25, 2022.

ADDRESSES: Submit your comments, identified by Docket ID No. EPA-HQ-OEI-2014-0197, by one of the following methods:

Federal eRulemaking Portal: https://www.regulations.gov. Follow the online instructions for submitting comments.

Email: docket_oms@epa.gov. Include the Docket ID number in the subject line of the message.

Fax: 202-566-1752.

Mail: OMS Docket, Environmental Protection Agency, Mail Code: 2822T, 1200 Pennsylvania Ave. NW, Washington, DC 20460.

Hand Delivery: OMS Docket, EPA/DC, WJC West Building, Room 3334, 1301 Constitution Ave. NW, Washington, DC 20460. Such deliveries are only accepted during the Docket's normal hours of operation, and special arrangements should be made for deliveries of boxed information.

Instructions: Direct your comments to Docket ID No. EPA-HQ-OEI-2014-0197. The EPA's policy is that all comments received will be included in the public docket without change and may be made available online at https://www.regulations.gov, including any personal information provided, unless the comment includes information claimed to be Controlled Unclassified Information (CUI) or other information for which disclosure is restricted by statute. Do not submit information that you consider to be CUI or otherwise protected through https://www.regulations.gov. The https://www.regulations.gov website is an “anonymous access” system for the EPA, which means the EPA will not know your identity or contact information. If you submit an electronic comment, the EPA recommends that you include your name and other contact information in the body of your comment. If the EPA cannot read your comment due to technical difficulties and cannot contact you for clarification, the EPA may not be able to consider your comment. If you send an email comment directly to the EPA without going through https://www.regulations.gov, your email address will be automatically captured and included as part of the comment that is placed in the public docket and made available on the internet. Electronic files should avoid the use of special characters, any form of encryption, and be free of any defects or viruses. For additional information about the EPA public docket, visit the EPA Docket Center homepage at https://www.epa.gov/dockets.

Docket: All documents in the docket are listed in the https://www.regulations.gov index. Although listed in the index, some information is not publicly available, e.g., CUI or other information for which disclosure is restricted by statute. Certain other material, such as copyrighted material, will be publicly available only in hard copy. Publicly available docket materials are available either electronically in https://www.regulations.gov or in hard copy at the OMS Docket, EPA/DC, WJC West Building, Room 3334, 1301 Constitution Ave. NW, Washington, DC 20460. The Public Reading Room is normally open from 8:30 a.m. to 4:30 p.m., Monday through Friday excluding legal holidays. The telephone number for the Public Reading Room is (202) 566-1744, and the telephone number for the OMS Docket is (202) 566-1752.

Temporary Hours During COVID-19

Out of an abundance of caution for members of the public and our staff, the EPA Docket Center and Reading Room are closed to the public, with limited exceptions, to reduce the risk of transmitting COVID-19. Our Docket Center staff will continue to provide remote customer service via email, phone, and webform. We encourage the public to submit comments via https://www.regulations.gov/ or email, as there may be a delay in processing mail and faxes. Hand deliveries and couriers may be received by scheduled appointment only. For further information on EPA Docket Center services and the current status, please visit us online at https://www.epa.gov/dockets.

FOR FURTHER INFORMATION CONTACT: Michael Hardy, Director, Administrative IT Systems Support Staff, Senior Information Technology Leader, Office of Mission Support, U.S. Environmental Protection Agency, Room 3352-L, WJC North—Mailcode 3102A, 1200 Pennsylvania Avenue, Washington, DC 20460, hardy.michael@epa.gov, 202-564-7899, Nicole Williams, Office of Mission Support, U.S. Environmental Protection Agency, Room 3352-P, WJC North—Mailcode 3102A, 1200 Pennsylvania Avenue, Washington, DC 20460, williams.nicole@epa.gov, 202-564-4026.

SUPPLEMENTARY INFORMATION: EPA is modifying the Case Records System by renaming it to the Enterprise Legal Case Management System (ELCMS). EPA is also consolidating information from other databases into the system to modernize legacy applications under a single platform. The Agency conducts hearings and renders decisions in proceedings between the EPA and persons, businesses, government entities, and other organizations which are regulated, or alleged to be regulated, under environmental laws.

ELCMS is a docketing, filing, case tracking, and document management system used for these proceedings. The system is maintained by the Office of Mission Support in Washington, DC and consists of electronic documents stored in a password-protected computer database. The system is accessible to Agency employees in connection with the performance of their authorized duties.

SYSTEM NAME AND NUMBER:

Enterprise Legal Case Management System (ELCMS), EPA-66.

SECURITY CLASSIFICATION:

Unclassified.

SYSTEM LOCATION:

Electronic records are maintained by the Office of Mission Support (OMS), at EPA Headquarters, 1200 Pennsylvania Avenue NW, Washington, DC 20460 and national servers are located at the EPA National Computer Center (NCC) in Research Triangle Park, NC 27711.

SYSTEM MANAGER(S):

Michael Hardy, Director, Strategic IT Investment Staff, Senior Information Technology Leader, Office of Mission Support, U.S. Environmental Protection Agency, Room 3352-L, WJC North—Mailcode 3102A, 1200 Pennsylvania Avenue, Washington, DC 20460, 202-564-7899, hardy.michael@epa.gov.

AUTHORITY FOR MAINTENANCE OF THE SYSTEM:

42 U.S.C. 11001 et seq. (Emergency Planning & Community Right-to-Know Act (EPCRA)); 42 U.S.C. 6901 et seq. (Resource Conservation and Recovery Act (RCRA)); 15 U.S.C. 2601 et seq. (Toxic Substances Control Act (TSCA)); 7 U.S.C. 136 et seq. (Federal Insecticide, Fungicide and Rodenticide Act (FIFRA)); 42 U.S.C. 9601 et seq. (Comprehensive Environmental Response, Compensation, and Liability Act (CERCLA)); 33 U.S.C. 1251 (Federal Water Pollution Control Act (FWPCA), commonly known as the Clean Water Act (CWA)); 42 U.S.C. 7401 (Clean Air Act (CAA)); 40 CFR 22.4 (Consolidated Rules of Practice Governing the Administrative Assessment of Civil Penalties and the Revocation/Termination or Suspension of Permits).

PURPOSE(S) OF THE SYSTEM:

The information in ELCMS is primarily used by Agency judges, attorneys and clerks to render determinations with respect to matters before them and to communicate the determinations to the appropriate individuals and organizations, as well as to the general public. Litigants, Agency attorneys and judges, and other interested parties may submit a variety of documents to the system, including pleadings, motions, briefs, exhibits, orders, hearing transcripts and initial decisions. When fully implemented, the electronic filing portion of the system will provide for online filing, tracking, and accounting of filings (e.g., pleadings, motions, briefs, exhibits, orders, and determinations) in all cases, both pending and archived. Other purposes of the system and the information contained therein, include:

• Responding to Freedom of Information Act requests;

• providing management information necessary to assess workload, assign incoming cases and monitor case progress;

• allowing individual judges to monitor the progress of assigned cases;

• providing ready access to case docketing information to support staff to enable timely response to complainants, government and private counsel, and respondents concerning the status of a particular case; and

• promoting transparency by providing public access to Agency litigation documents.

CATEGORIES OF INDIVIDUALS COVERED BY SYSTEM:

This system covers any person, including individuals, or their representative, who create a profile or whose information is contained in any document filed the system.

CATEGORIES OF RECORDS IN THE SYSTEM:

The records contained in this system may include but are not limited to: names, addresses, social security numbers, medical and/or financial information.

RECORD SOURCE CATEGORIES:

The sources of data within ELCMS are from documents submitted by parties to the administrative proceedings, to include briefs, motions, exhibits, and by judges presiding over the hearings and regional clerks, to include orders and initial decisions.

ROUTINE USES OF RECORDS MAINTAINED IN THE SYSTEM, INCLUDING CATEGORIES OF USERS AND PURPOSES OF SUCH USES:

The routine uses below are both related to and compatible with the original purpose for which the information was collected. The following general routine uses apply to this system (86 FR 62527): A, E, F, G, H, K, L, and M.

POLICIES AND PRACTICES FOR STORAGE OF RECORDS:

These records are maintained electronically on computer storage devices located at the EPA, and Administrative IT System Support Staff of OMS, manage the system which is stored at the National Computer Center (NCC) in Research Triangle Park, North Carolina in secure, access-controlled rooms, areas, and buildings. Backup files will be maintained at a disaster recovery site. Computer records are maintained in a secure password protected environment. Permission level assignments will allow users access only to those functions for which they are authorized. There are no paper records generated by this system.

POLICIES AND PRACTICES FOR RETRIEVAL OF RECORDS:

Cases are retrieved by the name of the business entity or parties to a particular case, or the case docket number.

POLICIES AND PRACTICES FOR RETENTION AND DISPOSAL OF RECORDS:

The records will be maintained under EPA Records Schedules 508, 509, and 510.

ADMINISTRATIVE, TECHNICAL, AND PHYSICAL SAFEGUARDS:

Security controls used to protect personal sensitive data in Enterprise Legal Case Management System are commensurate with those required for an information system rated MODERATE for confidentiality, integrity, and availability, as prescribed in National Institute of Standards and Technology (NIST) Special Publication, 800-53, “Security and Privacy Controls for Information Systems and Organizations,” Revision 5.

1. Administrative Safeguards: EPA personnel are required to complete annual agency Information Security and Privacy training. EPA personnel are instructed to lock their computers when they leave their desks.

2. Technical Safeguards: Electronic records are maintained in a secure, password protected electronic system. ELCMS access is limited to authorized, authenticated users integrated with the Agency's single-sign-on. This integration uses the user's LAN credentials to identify the user prior to granting access to the platform and ELCMS. All of the system's electronic communication utilizes the agency's Trusted Internet Connection (TIC).

3. Physical Safeguards: All records are maintained in secure, access-controlled areas or buildings.

RECORD ACCESS PROCEDURES:

All requests for access to personal records should cite the Privacy Act of 1974 and reference the type of request being made (i.e., access). Requests must include: (1) The name and signature of the individual making the request; (2) the name of the Privacy Act system of records to which the request relates; (3) a statement whether a personal inspection of the records or a copy of them by mail is desired; and (4) proof of identity. A full description of EPA's Privacy Act procedures for requesting access to records is available at 40 CFR part 16.

CONTESTING RECORDS PROCEDURES:

Requests for correction or amendment must include: (1) The name and signature of the individual making the request; (2) the name of the Privacy Act system of records to which the request relates; (3) a description of the information sought to be corrected or amended and the specific reasons for the correction or amendment; and (4) proof of identity. A full description of EPA's Privacy Act procedures for the correction or amendment of a record are described in EPA's Privacy Act regulations at 40 CFR part 16.

NOTIFICATION PROCEDURES:

Individuals who wish to be informed whether a Privacy Act system of records maintained by EPA contains any record pertaining to them, should make a written request to the EPA, Attn: Agency Privacy Officer, MC 2831T, 1200 Pennsylvania Ave. NW, Washington, DC 20460, or by email at: privacy@epa.gov. A full description of EPA's Privacy Act procedures is included in EPA's Privacy Act regulations at 40 CFR part 16.

EXEMPTIONS PROMULGATED FOR THE SYSTEM:

None.

HISTORY:

Federal Register Volume 79, Number 180 (Wednesday, September 17, 2014) [Notices] [Pages 55794-55796] From the Federal Register Online via the Government Publishing Office [www.gpo.gov] [FR Doc No: 2014-22164]

Vaughn Noga,
Senior Agency Official for Privacy.

[FR Doc. 2022-03832 Filed 2-22-22; 8:45 am]

BILLING CODE 6560-50-P